DEPARTMENT OF THE INTERIOR

Bureau of Land Management

[LLNV912000 L16400000.PH0000 LXSS006F0000 261A; 11-08807; MO# 4500020045; TAS: 14X1109]

Notice of Public Meetings: Sierra Front Northwestern Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Sierra Front-Northwestern Great Basin Resource Advisory Council (RAC) will meet in Carson City, Nevada and Gerlach, Nevada. The meetings are open to the public.

DATES AND TIMES: March 30-31, 2011, at the BLM Carson City District Office, 5665 Morgan Mill Road, Carson City, Nevada, and June 15-17, 2011, at Bruno's Country Club Café, 445 Main Street, Gerlach, Nevada, with an overnight field trip to Soldier Meadow Ranch north of the Black Rock Desert-High Rock Canyon Emigrant Trails National Conservation Area (NCA). Approximate meeting times are 9 a.m. to 5 p.m. and will include a general public comment period, tentatively scheduled for 4 p.m. on March 30 and 11 a.m. on June 15, unless otherwise listed in the final meeting agenda that will be available two weeks prior to each meeting. Field trips will be conducted as part of each two-day meeting.

FOR FURTHER INFORMATION CONTACT: Mark Struble, (775) 885-6107, E-mail: mstruble@blm.gov.

SUPPLEMENTARY INFORMATION: The 15-member Council advises the Secretary of the Interior, through the BLM, on a variety of planning and management issues associated with public land management in Nevada. Topics for discussion will include, but are not limited to: District Manager's reports on current program of work, Southern Nevada Public Land Management Act Round 12 review of R12 proposals and RAC-hosted public comment, landscape approach/land health assessment processes, impacts to proposed wind energy projects in eagle habitat, BLM wildlands policy, geothermal program review, Salt Wells Energy Projects Draft Environmental Impact Statement, field tour of ENEL Geothermal Power Plant at Salt Wells (Churchill County), Nevada Historic Marker Dedication for Pony Express Trail at ENEL Plant, LiDAR (Optical Remote-Sensing Technology) Virtual Tour of Hidden Cave, Hidden Cave and Grimes Point archaeological field tour, proposed Winnemucca Resource Management Plan/Final Environmental Impact Statement, drought issues related to springs/water sources for wild horses, livestock and wildlife, tour of new Black Rock NCA facility in Gerlach, Ruby Pipeline field visit, Trego Hot Springs field visit, and other topics that may be raised by RAC members.

The final agendas with any additions/corrections to agenda topics, locations, field trips and meeting times, will be posted on the BLM Web site at: http://www.blm.gov/nv/st/en/res/resource_advisory/sierra_front-northwestern.html, and sent to the media at least 14 days before the meeting. Individuals who need special assistance such as sign language interpretation or other reasonable accommodations, or who wish to receive a copy of each agenda, should contact Mark Struble at 775-885-6107 no later than one week before the start of each meeting.

Dated: February 14, 2011.
Christopher J. McAlear,
Carson City District Manager, (RAC Designated Federal Official).

[FR Doc. 2011-3704 Filed 2-17-11; 8:45 am]

BILLING CODE 4310-HC-P